DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Assessment of the State Maternal and Child Health Comprehensive Systems Grant (SECCS) Program (NEW)

HRSA's Maternal and Child Health Bureau (MCHB) is conducting an assessment of MCHB's State Maternal and Child Health Comprehensive Systems Grant (SECCS) Program. The purpose of the SECCS Program is to support State and local communities in their efforts to build comprehensive and coordinated early childhood service systems and to increase the leadership and participation of State MCH Title V programs in multi-agency early childhood systems development initiatives.

The SECCS funding is offered to States, jurisdictions, or Territory Title V agencies in two stages: Planning and Implementation. This assessment will only focus on Implementation Grantees awarded in 2005 (approximately 20 grantees) and 2006 (approximately 40 grantees). The purpose of the assessment is to determine: (1) Progress of implementation grantees in meeting the goals and objectives set forth in their plans developed during the planning phase and in building program infrastructure and capacity to improve early childhood services in their states/jurisdictions/territories; (2) programmatic, policy, and systemic barriers and facilitators that affect program implementation; and (3) quality and effectiveness of the technical assistance (TA) provided to the grantees. The results of the assessment will provide MCHB with timely feedback on the achievements of the SECCS Program and identify potential areas for improvement, which will inform program planning and operational decisions.

As part of the project, all implementation grantees will be asked to complete a Minimum Data Set (MDS), which will primarily include closed-ended questions addressing grantees' progress in achieving the requirements outlined in the implementation grant guidance. The MDS will primarily capture quantitative data on implementation grantees' progress in increasing the State MCH Program's role and leadership in multi-agency early childhood systems development initiatives and building partnerships and system capacity to improve early childhood services in their States.

This information will supplement and enhance the MCHB's current data collection efforts by providing a quantifiable, standardized, systematic mechanism for collecting information across the funded implementation grantees. For the 2005 cohort of implementation grantees, the MDS will be administered once in 2006 to gather baseline data, and again in the second year of implementation (2007) to gather follow-up data on progress made. For the 2006 cohort of grantees, the MDS will be administered once in 2007.

Respondents: The SECCS implementation grantees (Title V agencies) funded in 2005 and 2006 will be the primary respondents of the instrument. Approximately 60 implementation grantees will respond to the MDS. The estimated response burden is as follows:

Cohort | Number of respondents | Responses per respondent | Hours per response | Total hour burden
2005 Cohort | 18 | * 2 | 2 | 72
2006 Cohort | 42 | 1 | 2 | 84
Total | 60 |  |  | 156
* Data will be collected once in 2006 and once in 2007.

Written comments and recommendations concerning the proposed information collection should be sent within 30 days of this notice to: John Kraemer, Human Resources and Housing Branch, Office of Management and Budget, New Executive Office Building, Room 10235, Washington, DC 20503.

Dated: June 23, 2006.
Cheryl R. Dammons,
Director, Division of Policy Review and Coordination.

[FR Doc. E6-10272 Filed 6-29-06; 8:45 am]

BILLING CODE 4165-15-P